DEPARTMENT OF COMMERCE

National Oceanic and Atmospheric Administration

[Docket No. 070817470-7471-01; I.D. 051906D]

RIN 0648-ZB83

Availability of Grant Funds for Fiscal Year 2008

AGENCY: National Oceanic and Atmospheric Administration (NOAA), Department of Commerce (DOC).

ACTION: Notice.

SUMMARY: NOAA publishes this notice to amend the agency's solicitation for applications published on July 2, 2007 in an action entitled “Omnibus Notice Announcing the Availability of Grant Funds for Fiscal Year 2008”.

DATES: Proposals must be received by the date and time specified under each program listed in the SUPPLEMENTARY INFORMATION section of this document.

ADDRESSES: Proposals must be submitted to the program address listed in the SUPPLEMENTARY INFORMATION section of this document. NOAA's discretionary grant fund notices may be found on the internet at Grants.gov. The URL for Grants.gov is http://www.grants.gov.

FOR FURTHER INFORMATION CONTACT: For those without Internet access request a copy of the full funding opportunity announcement and/or application kit, from the person listed as the information contact under each program.

SUPPLEMENTARY INFORMATION: Applicants must comply with all requirements contained in the Federal Funding Opportunity announcement for each of the programs listed in this omnibus notice. These Federal Funding Opportunities are available at http://www.grants.gov.

The list of grant opportunities under NOAA Project Competitions (below) describe the basic information and requirements for the competitive grant/cooperative agreement programs offered by NOAA. These programs are open to anyone who meets the eligibility criteria specified under each grant. To be considered for an award in a competitive grant/cooperative agreement program, eligible applicants must submit a complete and responsive application to the appropriate address by the deadline specified in this notice. An award is made upon conclusion of the evaluation and selection process for the respective program.

Table of Contents

I. Background

II. NOAA Project Competitions

Oceanic and Atmospheric Research (OAR)

1. NMFS-Sea Grant Fellowships in Marine Resource Economics

2. NOAA Marine Aquaculture Program

3. National Sea Grant College Program Aquatic Invasive Species Research and Outreach

4. FY08 Ocean Exploration Omnibus

5. 2009 Dean John A. Knauss Marine Policy Fellowship (Knauss Fellowship Program)

6. NMFS—Sea Grant Fellowships in Population Dynamics

7. Pennsylvania Sea Grant Institutional Program

Office of the Under Secretary (USEC)

1. Administrative Services for the Ernest F. Hollings Undergraduate Scholarship Program

III. NOAA Non-competitive Opportunity

Oceanic and Atmospheric Research (OAR)

1. NOAA Coral Reef Conservation Grant Program—Coral Reef Ecosystem Research Grants

IV. Classification

I. Background

In this amendment, NOAA adds eight programs that are making funds available for financial assistance awards. Interested applicants should consult the July 2, 2007, notice for all of the other requirements for submitting an application. Each of the following grant opportunities provide: A description of the program, funding availability, statutory authority, catalog of Federal domestic assistance (CFDA) number, application deadline, address for submitting proposals, information contacts, eligibility requirements, cost sharing requirements, and intergovernmental review under Executive Order 12372.

In addition, this notice announces information related to a non-competitive financial assistance project to be administered by NOAA. This project is titled “NOAA Coral Reef Conservation Grant Program—Coral Reef Ecosystem Research Grants”. This project will award Federal financial assistance to the National Undersea Research Center at the University of Hawaii to administer competitive coral reef research grant programs for the Caribbean, Southeastern United States, Florida, the Gulf of Mexico, Hawaii and the Western Pacific. To receive an award for this project, an eligible applicant must submit a complete and responsive application to the appropriate program office. An award is made upon conclusion of the evaluation process for the prospective project.

II. NOAA Project Competitions

Oceanic and Atmospheric Research (OAR)

1. NMFS—Sea Grant Fellowships in Marine Resource Economics

Summary Description: The Graduate Fellowship Program generally awards two new Ph.D. fellowships each year to students who are interested in careers related to the development and implementation of quantitative methods for assessing their status or the economics of the conservation and management of living marine resources. Fellows will work on thesis problems of public interest and relevance to NMFS under the guidance of NMFS mentors at participating NMFS Science Centers or Laboratories. This solicitation is responsive to NOAA Mission Goal 1: Protect, restore and manage the use of coastal and ocean resources through ecosystem-based management.

Funding Availability: The NMFS Sea Grant Joint Graduate Fellowship Program in Marine Resource Economics expects to support two new Fellows for 2 years beginning in FY 2008. The award for each fellowship will be a cooperative agreement of $38,500 per year, with an anticipated start date of June 1, 2008.

Statutory Authority: Authority for the Resource Economics Graduate Fellowship Program is provided by the following: 33 U.S.C. 1127(a).

Catalog of Federal Domestic Assistance (CFDA) Number: 11.417, Sea Grant Support.

Application Deadline: Applications must be received by 4 p.m., Eastern time February 22, 2008 by the National Sea Grant Office (NSGO).

Address for Submitting Proposals: Applications from Sea Grant programs should be submitted through www.Grants.gov. Facsimile transmission and electronic mail submission of applications will not be accepted.

Information Contacts: Contact Dr. Terry Smith, National Sea Grant College Program, 1315 East-West Highway, Silver Spring, MD 20910; tel: (301) 734-1084; e-mail: Terry.Smith@noaa.gov.

Eligibility: Prospective Fellows must be United States citizens. At the time of application, prospective Marine Resource Economics Fellows must be admitted to a Ph.D. degree program in natural resource economics or a related field at an institution of higher education in the United States or its territories or submit a signed letter from the institution indicating provisional acceptance to a Ph.D. degree program conditional on obtaining financial support such as this fellowship. Applications must be submitted by the institution of higher education, which may be any such institution in the United States or its territories.

Cost Sharing Requirements: Of the $38,500 award, 50 percent ($19,250) will be contributed by NMFS, 33⅓ percent ($12,833) by the National Sea Grant Office (NSGO), and 16⅔ percent ($6,417) by the institution of higher education as the required 50 percent match of NSGO funds.

Intergovernmental Review: Applications under this program are not subject to Executive Order 12372, Intergovernmental Review of Federal Programs.

2. NOAA Marine Aquaculture Program

Summary Description: The National Oceanic and Atmospheric Administration (NOAA) is seeking preliminary proposals and full proposals for demonstration projects and innovative research for the development of environmentally and economically sustainable marine aquaculture in nearshore, open water, and terrestrial environments. The Great Lakes are considered marine for this competition. Priorities include: (1) Site-specific commercial/pilot scale demonstration projects to establish technical and economic feasibility with special emphasis on hatchery development, land based, near shore and offshore production systems; (2) studies to assess environmental impacts of current marine aquaculture production systems and species including fish and shellfish; (3) nutrition research involving alternative protein based diets and influence of diet on product quality; (4) development of environmental models and GIS tools to aid site selection for new facilities; (5) disease diagnostics and control; (6) development of technical, hands-on training programs in marine hatchery operations and management; and (7) development of synthesis research papers (i.e., executive summary and journal publication) for the following topics: (a) Environmental impacts of marine production systems; (b) alternative protein feeds and potential impacts; (c) disease transmission from aquaculture to wild stocks and vice versa, and status of ecologically acceptable treatments and preventives; and 9d) genetic technologies and environmental risk analysis. This program supports NOAA's mission to protect, restore and manage the use of coastal and ocean resources through ecosystem based management. Projects funded under this competition should support NOAA's overall goals for its marine aquaculture program, which are to: (1) Establish a comprehensive regulatory program for the conduct of marine aquaculture operations; (2) Develop appropriate technologies to support commercial marine aquaculture and enhancement of wild stocks; (3) Establish and implement procedures for the environmental assessment and monitoring of marine aquaculture activities; (4) Conduct education and outreach activities to establish a well informed public on marine aquaculture; and (5) Meet international obligations to promote environmentally sustainable practices for the conduct of marine aquaculture.

Funding Availability: NOAA will hold an open competition for up to $8 million for FY 2008 and FY 2009, with individual projects ranging from approximately $200,000 to $1,000,000 for a two year period. It is anticipated that we will make approximately 20 awards, three or four pilot scale demonstration projects at or near the $1,000,000 level for the two year period and the remainder at or about the $200,000 level. In addition, funding for the synthesis research papers (priority # 7 described in Summary Description section) is anticipated to be up to $50,000 with four awards being made. Some funds in FY 2008 may be used to finish out projects started in FY 2007. We intend to fund projects for the full two year project period (08 and 09) using FY 2008 funds. In addition we will use some FY 2009 funds to start other two year projects identified through this FY 2008 competition. It is not anticipated that a competition will be held in 2009. We reserve the option to use some FY 2010 funds to finish projects started in FY 2009. Only exceptional projects with multiple partners providing significant impact towards the previously mentioned goals will be considered for the higher level of funding. Projects involving industry collaboration and specific resource leveraging are encouraged and will be given higher rank and consideration.

Statutory Authority: 33 D.S.C. 1121 et seq.

Catalog of Federal Domestic Assistance (CFDA) Number: 11.417, Sea Grant Support.

Application Deadline: Preproposals must be received at NOAA by 4 p.m. EDT, on October 18,2007 and full proposals by 4 p.m. EST on January 24, 2008. Anticipated grant start dates will be June 1, 2008. Anticipated grant start dates will be June 1, 2008.

Address for Submitting Proposals: Full proposals should be submitted through grants.gov. Preliminary proposals from all applicants, and full proposals from those that do not have access to internet should be sent in hardcopy to: Dr. Andy Lazur, NOAA R/SG; 1315 East-West Highway, Bldg SSMC 3, Room 11805, Silver Spring, MD 20910-3283, tel. 301-734-1082.

Information Contacts: Dr. Andy Lazur, 301-734-1082; via internet at Andy.Lazur@noaa.gov, facsimile 301-713-0799. For information on past projects contact: NOAA Aquaculture Information Center, Eileen McVey at: Eileen.mcvev@,noaa.gov.

Eligibility: Institutions of higher education, nonprofit organizations, commercial organizations, Federal, State, local and Indian tribal governments and individuals are eligible.

Please Note: Before non NOAA Federal applicants may be funded, they must demonstrate that they have legal authority to receive funds from another Federal agency in excess of their appropriation. Because this announcement is not proposing to procure goods or services from applicants, the Economy Act (31 D.S.C. 1535) is not an appropriate legal basis. Only those who submit preliminary proposals by the preliminary proposal deadline are eligible to submit full proposals.

Cost Sharing Requirements: Matching funds are not required, however proposals that combine resources from institutions such as private industry, universities, Federal and State agencies, and foundations to address national or regional issues will be considered in relation to Criteria One (Impacts) in this solicitation and factor 6 (partnerships) of the selection factors listed in the Omnibus Federal Register notice for this competition.

Intergovernmental Review: Applications under this Program are not subject to Executive Order 12372, “Intergovernmental Review of Federal Programs.”

3. National Sea Grant College Program Aquatic Invasive Species Research and Outreach

Summary Description: The National Sea Grant College Program seeks to fund research and outreach projects addressing the introduction and spread of aquatic invasive species. The goal of the program is to discover and develop information and tools that can lead to the prevention, detection, monitoring and control of aquatic invasive species threatening United States coastal, oceanic and Great Lakes communities, resources and ecosystems. The program seeks especially to support NOAA-relevant regional research and outreach priorities identified by the Regional Panels of the Aquatic Nuisance Species Task Force. Consult the full Federal Funding Opportunity for these priorities. Appropriate areas of research may include: Biology and life history research, population dynamics, genetics, physiology, behavior, and parasites and diseases of invasive species, ecological and environmental tolerances of invasive species, impacts of invasive species at each stage of their life history on the environment, resources, and human health, research into invasive species control measures (engineering, physical, chemical, biological, physicochemical, administrative, and educational), and economic impact analysis of invasive species on marine and coastal resources, sport, commercial and tribal fisheries, the recreation and tourism industry, the shipping and navigation industry, and municipal and industrial water users. Other appropriate areas of endeavor may include: Use of research results to provide a scientific basis for developing sound policy and environmental law, public education and technology transfer, research and outreach into identifying vectors of aquatic invasive species introduction, and education and outreach activities that will transfer this information to the appropriate users. The program priorities for this opportunity support NOAA's mission support goal of: Ecosystems—Protect, Restore, and Manage Use of Coastal and Ocean Resources through Ecosystem-Based Management.

Funding Availability: Depending on the overall funding appropriation for the National Sea Grant College Program, a total of up to $2,000,000 for FY 2008 and FY 2009 is anticipated to be available to support invasive species research and outreach projects of up to two years duration. Federal funding will range approximately between $30,000 and $300,000 per project. This announcement solicits for FY 2008 and FY 2009; we do not anticipate issuing a separate solicitation for this program in FY 2009.

Statutory Authority: Program Authority for the Aquatic Invasive Species Research and Outreach Program is provided by 33 U.S.C. 1121-1131.

Catalog of Federal Domestic Assistance (CFDA) Number: 11.417, Sea Grant Support.

Application Deadline: Applications must be received by the National Sea Grant Office (NSGO) or the state Sea Grant Program by 4 p.m. EDT on October 11, 2007, for preliminary proposals and by 4 p.m. EST on February 14, 2008, for full proposals.

Address for Submitting Proposals: APPLICANTS FROM SEA GRANT STATES must submit applications (both preliminary and full proposals) to their state Sea Grant Program, to the addresses provided by that Program. Consult your state Sea Grant Program for information on addresses. Sea Grant states are: Alabama; Alaska; California; Connecticut; Delaware; Florida; Georgia; Hawaii; Illinois; Indiana; Louisiana; Maine; Maryland; Massachusetts; Michigan; Minnesota; Mississippi; New York; New Hampshire; New Jersey; North Carolina; Ohio; Oregon; Pennsylvania; Puerto Rico; Rhode Island; South Carolina; Texas; Vermont; Virginia; Washington; Wisconsin. The contact information for Sea Grant College Programs may be found at: http://www.seagrant.noaa.gov/SGDirectors.html or may also be obtained by contacting Dorn Carlson listed in the Agency Contacts section. Internet links to state Sea Grant Programs can be found at: http://www.seagrant.noaa.gov/colleges/textlinks.html. Applicants *NOT* From Sea Grants States may submit their applications to a nearby state Sea Grant program, or directly to the NSGO. If applications are sent directly to the NSGO, preliminary proposals must be submitted in paper hardcopy, to: National Sea Grant Office, Attn: Mrs. Geraldine Taylor, Invasive Species, 1315 East-West Highway, R/SG, Rm 11732, Silver Spring, MD 20910, telephone 301-734-1072. Full proposals must be submitted electronically, via http://grants.gov, addressing opportunity number OAR-SG-2008-2001200. If an applicant does not have access to Grants.gov, full applications may be sent in hardcopy (one signed original and two copies) to the address given above for preliminary proposals. Include a cover letter stating that you are submitting in hardcopy because you do not have access to Grants.gov. Sea Grant College Programs must submit applications through Grants.gov.

Information Contacts: Dorn Carlson, NOAA R/SG, National Sea Grant Office, 1315 East-West Highway, Rm 11839, Silver Spring, MD 20910, telephone 301-734-1080; via electronic mail at invasive.species@noaa.gov.

Eligibility: Individuals, institutions of higher education, nonprofit organizations, commercial organizations, State, local and Indian tribal governments, foreign governments, and international organizations are eligible. Only those who submit preliminary proposals by the deadline are eligible to submit full proposals.

Cost Sharing Requirements: Each proposal must include additional non-Federal matching funds equivalent to at least 50 percent of the Federal funds requested; for example, a proposal requesting $100,000 in Federal support must include at least an additional $50,000 in matching funds.

Intergovernmental Review: Applications under this Program are not subject to Executive Order 12372, “Intergovernmental Review of Federal Programs.”

4. FY08 Ocean Exploration (OE) Omnibus

Summary Description: OE is seeking pre-proposals and full proposals to support its mission, consistent with NOAA's Strategic Plan (http://www.nrc.noaa.gov), to search, investigate, and document marine archaeological resources and to further ocean education and ocean literacy. OE is seeking proposals for exploration and discovery of significant maritime heritage sites, including submerged, previously subaerial, landscapes, shipwrecks, aircraft, and other maritime cultural sites. Competitive OE proposals will be bold, innovative and interdisciplinary in their approach and objectives. Proposals will emphasize the early phases of field archaeology: searching, locating, evaluating or inventorying sites. Marine Archaeology projects may be conducted in any of the oceans, coasts or Great Lakes regions, on any suitable platform, vessel or other charter. In prior years, OE has funded the development of educational products to enable teachers to bring NOAA science into classrooms throughout the country. To facilitate the use of NOAA science in formal and informal education environments, OE is seeking proposals to extend the use of these existing OE education products, located on its Web site, in school districts and other learning centers throughout the country. It is anticipated that a total of approximately $700,000 will be available through this announcement, partitioned, approximately, as follows: Marine Archaeology, $400,000 and Ocean Exploration Education, $300,000. Applicants are encouraged to visit the Ocean Explorer Web site (http://www.oceanexplorer.noaa.gov) to familiarize themselves with past and present OE-funded activities. Background on how to apply and the required proposal cover sheets are accessible through the OE Office Web site at http://www.explore.noaa.gov/opportunitv/welcome.html. In furtherance of this objective, NOAA issues this Federal Funding Opportunity for extramural research, innovative projects, and sponsorships that address one the following mission goal descriptions contained in the NOAA Strategic Plan: To Protect, Restore, and Manage the Use of Coastal and Ocean Resources through an Ecosystem Approach to Management.

Funding Availability: In anticipation of the FY08 President's Budget, OE anticipates supporting approximately 9 awards through this solicitation; 4 in Marine Archaeology and 5 in Education. The OE Director may hold-over select proposals submitted for 2008 funding for consideration in 2009. The amount of funding available through this announcement is subject to the final FY08 appropriation for Ocean Exploration. Publication of this announcement does not obligate NOAA to fund any specific project or to obligate all or any part of available funds. There is no guarantee that sufficient funds will be available to initiate or continue research activities where funding has been recommended by OE. The exact amount of funds that OE may recommend be granted will be determined in pre-award negotiations between the applicant and NOAA representatives. Future opportunities for submitting proposals may be available and will depend on OE funding levels.

Statutory Authority: 33 U.S.C. 883d.

Catalog of Federal Domestic Assistance (CFDA) Number: 11.460, Special Oceanic and Atmospheric Projects.

Application Deadline: Pre-proposals are required for all categories and must be received by 5 p.m. Eastern Time, September 27, 2007. Applicants will receive an e-mail encouraging or discouraging a full proposal submission 40 days after submission. If you have not received a reply 40 days after submission contact OE (OEoffice@noaa.gov) as soon as possible. Full proposal submissions must be received no later than 5 p.m. Eastern Time, October 29, 2007. Applications received after the above deadlines will not be considered.

Address for Submitting Proposals: Pre-proposal submissions can be either by e-mail (send to OEOffice@noaa.gov) or by hard-copy (send three copies to the mailing address below). If by e-mail, please put your last name in the subject heading along with the words OE Pre-proposal, e.g., ‘Smith OE Pre-proposa1.' Adobe PDF format is preferred. No facsimile pre-proposals will be accepted. Full proposal submissions for non-Federal applicants must be submitted through www.grants.gov. Federal applicants must submit hard-copies to the address below. The Catalog of Federal Domestic Assistance (CFDA) number is 11.460—Special Oceanic and Atmospheric Projects. An exception will be made for those non-Federal applicants with limited internet access, who may submit hard-copy to the address below. No e-mail proposal submissions will be accepted. Instructions and Mailing Address for Hard-Copy Submissions: Pre-proposals or Full Proposals. Hard copy applications should be binder-clipped together (not bound or stapled) and printed on one-side only. Three signed, hard copy originals are required (use blue/black ink). Since reviewers will require access to an electronic copy, applicants submitting hard copies are highly-encouraged to also submit a digital version in one Adobe PDF file on CD-ROM.

Mailing Address: ATTN: Dr. Nicolas Alvarado, NOAA Office of Ocean Exploration, SSMC III, 10th Floor, 1315 East West Highway, Silver Spring, Maryland 20910.

Information Contacts: For further information contact the NOAA Office of Ocean Exploration at (301) 734-1015 or submit inquiries via email to the Frequently Asked Questions address: oar.oe.FAQ@noaa.gov. Email inquiries should include the Principal Investigator's name in the subject heading. Inquiries can be mailed to ATTN: Dr. Nicolas Alvarado, NOAA Office of Ocean Exploration, 1315 East West Highway, SSMC3, 10th Floor, Silver Spring, MD 20910.

Eligibility: Eligible applicants are from institutions of higher education, other nonprofits, commercial organizations, organizations under the jurisdiction of foreign governments, international organizations, State, Local and Indian tribal governments.

Applications from Federal agencies are also eligible. Please Note: Before non-NOAA Federal applicants may be funded, they must demonstrate they have legal authority to receive funds from another Federal agency in excess of their appropriation. Because this announcement is not proposing to procure goods or services from applicants, the Economy Act (31 U.S.C. 1535) is not an appropriate legal basis.

Cost Sharing Requirements: Cost-sharing is not required.

Intergovernmental Review: Applications under this program are subject to Executive Order 12372, “Intergovernmental Review of Federal Programs.” Applicants must contact their State's Single Point of Contact (SPOC) to find out about and comply with the State's process under EO 12372. The names and addresses of the SPOCs are listed in the Office of Management and Budget's Web site: http://www.whitehouse.gov/omb/grants/spoc.html.

5. 2009 Dean John A. Knauss Marine Policy Fellowship (Knauss Fellowship Program)

Summary Description: The Dean John A. Knauss Marine Policy Fellowship Program is committed not only to advancing marine-related educational and career goals of participating students, but also to increasing partnerships between universities and government. The Program matches graduate students who have an interest in ocean, coastal and Great Lakes resources, and in the national policy and management decisions affecting these resources, with hosts in the Legislative and Executive branches of the Federal government for a one year paid fellowship. The program priorities for this opportunity support NOAA's Ecosystem mission support goal: Protect, restore and manage use of coastal and ocean resources through ecosystem-based management.

Funding Availability: No less than 30 applicants will be selected. Up to 11 selected applicants will be assigned to the Congress. The overall cooperative agreement is $43,500 per student.

Statutory Authority: 33 U.S.C. 1127(b).

Catalog of Federal Domestic Assistance (CFDA) Number: 11.417, Sea Grant Support.

Application Deadline: Eligible graduate students must submit applications to state Sea Grant college programs. Applications from prospective fellows to the State Sea Grant College Programs (SGCP) are due February 29,2008. Applicants from states not served by a Sea Grant program should contact the NSGO; subsequently, the applicant will be referred to the appropriate Sea Grant program to submit applications by the February 29 deadline. Applicants should consult the Sea Grant program before submitting an application to it.

Address for Submitting Proposals: Applications from Sea Grant programs should be submitted through www.Grants.gov. Hard copy justification and applications should be submitted to: Miguel Lugo, Program Manager, Knauss Fellowship Program, National Sea Grant College Program, 1315 East-West Highway, Silver Spring, MD 20910.

Information Contacts: Miguel Lugo, Program Manager, Knauss Fellowship Program, National Sea Grant College Program, 1315 East-West Highway, Silver Spring, MD 20910; tel: (301) 734-1077 x1075. Inquiries can also be made to any state Sea Grant Program. Contact information for state Sea Grant College Programs can be found at: http://www.seagrant.noaa.gov/other/pro gramsdirectors.html.

Eligibility: Any student, regardless of citizenship, who, on February 29, 2008, is in a graduate or professional program in a marine or aquatic-related field at a United States-accredited institution of higher education in the United States or U.S. Territories may apply.

Cost Sharing Requirements: There will be one-third required cost share for those applicants selected as legislative fellows.

Intergovernmental Review: Applications under this program are not subject to Executive Order 12372, Intergovernmental Review of Federal Programs.

6. NMFS-Sea Grant Fellowships in Population Dynamics

Summary Description: The Graduate Fellowship Program awards at least two new Ph.D. fellowships each year to students who are interested in careers related to the population dynamics of living marine resources and the development and implementation of quantitative methods for assessing their status. Fellows will work on thesis problems of public interest and relevance to NMFS under the guidance of NMFS mentors at participating NMFS Science Centers or Laboratories. This solicitation is responsive to NOAA Mission Goal 1: protect, restore and manage the use of coastal and ocean resources through ecosystem-based management.

Funding Availability: The award for each Fellowship, contingent upon the availability of Federal funds, will be a multi-year cooperative agreement in the amount of $38,500 per year for up to three years.

Statutory Authority: Authority for the Population Dynamics Graduate Fellowship Program is provided by the following: 33 U.S.C. 1127(a).

Catalog of Federal Domestic Assistance (CFDA) Number: 11.417, Sea Grant Support.

Application Deadline: Applications must be received by 4 p.m., Eastern time February 22, 2008 by the National Sea Grant Office (NSGO). State Sea Grant programs should set an internal deadline of January 25, 2008 to facilitate the entry of non-electronic applications into Grants.gov.

Address for Submitting Proposals: Applications from Sea Grant programs should be submitted through www.Grants.gov. Facsimile transmission and electronic mail submission of applications will not be accepted.

Information Contacts: Contact Dr. Terry Smith, National Sea Grant College Program, 1315 East-West Highway, Silver Spring, MD 20910; tel: (301) 734-1084; e-mail: Terry.Smith@noaa.gov.

Eligibility: Prospective Fellows must be United States citizens. At the time of application, prospective Population Dynamics Fellows must be admitted to a Ph.D. degree program in population dynamics or a related field such as applied mathematics, statistics, or quantitative ecology at an institution of higher education in the United States or its territories, or submit a signed letter from the institution indicating provisional acceptance to a Ph.D. degree program conditional on obtaining financial support such as this fellowship. Applications must be submitted by the institution of higher education, which may be any such institution in the United States or its territories.

Cost Sharing Requirements: Of the $38,500 award, 50 percent ($19,250) will be contributed by NMFS, 33⅓ percent ($12,833) by the National Sea Grant Office (NSGO), and 16⅔ percent ($6,417) by the institution of higher education as the required 50 percent match of NSGO funds.

Intergovernmental Review: Applications under this program are not subject to Executive Order 12372, Intergovernmental Review of Federal Programs.

7. Pennsylvania Sea Grant Institutional Program

Summary Description: NOAA's National Sea Grant College Program (NSGCP) invites applications to establish an Institutional Sea Grant Program for the Commonwealth of Pennsylvania beginning in FY 2008. Applicants should provide a 4-year plan for an institutional program that will be part of the larger National Sea Grant network, a partnership between the Federal Government and universities to conduct integrated research, education and outreach in fields related to ocean, coastal and Great Lakes resources. Applicants must comply with all requirements contained in the full funding opportunity announcement. The program priorities for this opportunity support NOAA's Ecosystem mission support goal: protect, restore and manage use of coastal and ocean resources through ecosystem-based management.

Funding Availability: NOAA expects that about $500K will be available from the NSGCP to establish a new Sea Grant institutional program for the Commonwealth of Pennsylvania beginning in FY 2008. NOAA anticipates continuing support at that level from FY 2009-FY 2011 if funds are available.

Statutory Authority: 33 U.S.C. 1121 et seq., as amended.

Catalog of Federal Domestic Assistance (CFDA) Number: 11.417, Sea Grant Support.

Application Deadline: Proposals must be received no later than 5 p.m. Eastern Standard Time, October 15,2007.

Address for Submitting Proposals: Program Officer: Sami Grimes, 1315 East West Hwy, Silver Spring, MD 20910-3282 301-734-1077 Ext. 1073 sami.grimes@noaa.gov Organization: NOAA/National Sea Grant Program R/SG 1315 East-West Hwy, Silver Spring, MD 20910.

Information Contacts: For a copy of the full funding opportunity announcement and/or application kit, access it at Grants.gov, via NOAA Sea Grants Web site, or by contacting Ms. Sami Grimes, NOAA R/SG, 1315 East West Highway, Silver Spring, MD 20910-3283, telephone: 301-734-1073, e-mail: sami.grimes@noaa.gov.

Eligibility: Proposals may be submitted by institutions of higher education, or confederations of such institutions in the state of Pennsylvania that have achieved coherent area program status.

Cost Sharing Requirements: To be eligible for the NSGCP funds, a match of 50% of the requested Federal funds (direct and indirect costs) is needed. Sea Grant requires that funds be matched with at least one non-Federal dollar for every two Federal dollars.

Intergovernmental Review: Applications under this program are not subject to Executive Order 12372, Intergovernmental Review of Federal Programs.

Office of the Under Secretary (USEC)

1. Administrative Services for the Ernest F. Hollings Undergraduate Scholarship Program

Summary Description: The purpose of this document is to advise the public that NOAA's Office of Education is announcing the availability of Federal assistance for a not-for-profit organization for administrative services for the Ernest F. Hollings Undergraduate Scholarship Program. The purposes of the program include: (1) To increase undergraduate training in oceanic and atmospheric science, research, technology, and education and foster multidisciplinary training opportunities; (2) to increase public understanding and support for stewardship of the ocean and atmosphere and improve environmental literacy; (3) to recruit and prepare students for public service careers with the National Oceanic and Atmospheric Administration and other natural resource and science agencies at the Federal, state and local levels of government; and (4) to recruit and prepare students for careers as teachers and educators in oceanic and atmospheric science and to improve scientific and environmental education in the United States. The Ernest F. Hollings Scholarship Program provides approximately 100 selected undergraduate applicants per year with awards that include academic assistance (up to a maximum of $8,000) for full-time study during the 9-month academic year; a 10-week, full-time internship position ($650/week) during the summer at a NOAA or partner facility; and, if reappointed, academic assistance (up to a maximum of $8,000) for full-time study during a second 9-month academic year. The internship between first and second years of award provides hands-on multi-disciplinary educational training experience involving Scholars in NOAA-related scientific, research, technological, policy, management, and education activities. Awards also include a housing subsidy for scholars who do not reside at home during the summer internship and travel expenses for attendance and participation at a Ernest F. Hollings scholarship orientation program, conference travel, and an end of summer internship presentation program. The program priorities for this opportunity support NOAA's mission support goal of Critical Support Facilities, ships, aircraft, environmental satellites, data-processing systems, computing and communications systems.

Funding Availability: Subject to appropriations, this solicitation announces that funding at a maximum of $6,800,000 will be available for program administration of the Ernest F. Hollings Undergraduate Scholarship Program over a four-year period. Only one application will be funded. Up to 18 percent is allowed for administrative overhead and at least 82 percent of the Federal funding is for student support. It is anticipated that the funding instrument will be a cooperative agreement since NOAA will be substantially involved in the selection of scholarship recipients, identifying NOAA facilities to place students during the one summer internship, and with collaboration, participation, or intervention in project performance.

Statutory Authority: 15 U.S.C. 1540, Public Law 108-447.

Catalog of Federal Domestic Assistance (CFDA) Number: 11.481, Educational Partnership Program.

Application Deadline: Dates: Applications must be received by NOAA Office of Education by October 1, 2007, no later than 11:59 p.m. (Eastern Daily Time). Hard copy applications will be date and time stamped when they are received. Facsimile transmission and electronic mail submission of applications will not be accepted.

Address for Submitting Proposals: Applications submitted in response to this announcement should be submitted through the Grants.gov Web site. Electronic access to the full funding announcement for this program is available via the Grants.gov Web site: http://www.grants.gov. The announcement will also be available by contacting the program official identified below. Only if an applicant does not have Internet access, hard copies may be sent to the Office of Education, Educational Partnership Program, 1315 East-West Highway, Room 10703, Silver Spring, MD 20910. No facsimile applications will be accepted. Organizations are encouraged to submit Letters of Intent to NOAA within 30 days of this announcement to aid in planning the review processes. Letters of Intent may be submitted to Chantell Haskins via e-mail to StudentScholarshipPrograms@noaa.gov. Information should include a general description of the program administration proposal.

Information Contacts: Program Management. Chantell Haskins, NOAA Office of Education, 301-713-9437 ext. 150, Internet: StudentScholarshipPrograms@noaa.gov. Business Management Information. Arlene S. Porter, NOAA/GMD Grants Administrator, 301-713-0942 ext 152, Internet: Arlene.S.Porter@noaa.gov.

Eligibility: Eligible applicants are not for profit organizations with demonstrated administrative experience operating fellowships, scholarship and internship programs in science and technology areas. Federal agencies and the academic community are not eligible to apply to this notice.

Cost Sharing Requirements: None.

Intergovernmental Review: Applications under this program are not subject to Executive Order 12372, “Intergovernmental Review of Federal Programs.”

III. NOAA Non-Competitive Project

The following entry provides the description and requirements of NOAA's noncompetitive project.

Oceanic and Atmospheric Research (OAR)

1. NOAA Coral Reef Conservation Grant Program—Coral Reef Ecosystem Research Grants

Summary Description: The NOAA Coral Reef Conservation Grant Program announces that it is providing funding to the NOAA Undersea Research Program (NURP) Centers for: the Southeastern U.S., Florida, and Gulf of Mexico Region, the Southeast U.S. and Gulf of Mexico Center; and the Hawaii and Western Pacific Region, the Hawaii Undersea Research Laboratory to administer two external, competitive coral reef ecosystem research grants programs. Research supported through these programs will address priority information needs identified by coral reef ecosystem managers and scientists. Broad coral reef research priorities supported through these programs may include research on coral disease and bleaching, fisheries population dynamics and ecology, coral reef restoration and mitigation approaches, effects of anthropogenic stressors on benthic invertebrates, impacts and spread of invasive species, and evaluation of management actions and strategies. Specific priorities within these broad areas, and geographic preferences, will be indicated in each NURP Center's request for proposals. The NURP Center external coral reef research grants programs are part of the NOAA Coral Reef Conservation Grants Program under the Coral Reef Conservation Act of 2000. The program priorities for this opportunity support NOAA's mission support goal of: Ecosystems—Protect, Restore, and Manage Use of Coastal and Ocean Resources through Ecosystem-Based Management.

Funding Availability: Approximately $600,000 may be available in FY 2008 to support awards under this program.

Statutory Authority: Statutory authority for this program is provided under 16 U.S.C. 6403.

Catalog of Federal Domestic Assistance (CFDA) Number: 11.430, National Undersea Research Program.

Information Contact: Kimberly Puglise, 301-713-2427, extension 199 or e-mail at kimberly.puglise@noaa.gov. Announcements requesting proposals will be announced on: http://www.uncw.edu/nurc, for the NURP Center for the Southeastern U.S. and the Gulf of Mexico; for the NURP Center for Hawaii and the Western Pacific, the Hawaii Undersea Research Laboratory.

Cost Sharing Requirements: The awards require a 1:1 Federal to non-Federal match.

Intergovernmental Review: Applications under this program are not subject to Executive Order 12372, “Intergovernmental Review of Federal Programs.”

IV. Classification

Limitation of Liability

Funding for potential projects in this notice is contingent upon the availability of Fiscal year 2008 appropriations. Applicants are hereby given notice that funds have not yet been appropriated for any proposed activities in this notice. In no event will NOAA or the Department of Commerce be responsible for proposal preparation costs. Publication of this announcement does not oblige NOAA to award any specific project or to obligate any available funds.

Universal Identifier

Applicants should be aware that, for programs which have deadline dates on or after October 1, 2003, they may be required to provide a Dun and Bradstreet Data Universal Numbering System (DUNS) number during the application process. See the 67 FR 66 177; October 30, 2002 information.

Organizations can receive a DUNS number at no cost by calling the dedicated toll-free DUNS Number request line at 1-866-705-5711 or via the Internet (http://www.dunandbradstreet.com).

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216-6-TOC.pdf, NEPA Questionnaire, http://www.nepa.noaa.gov/questionnaire.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This section applies to the extent that this BAA results in financial assistance awards involving access to export-controlled information or technology.

(b) In performing a financial assistance award, the recipient may gain access to export-controlled information or technology. The recipient will then be responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions.

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic Arms Regulations (ITAR) (22 CFR parts 120-130), implemented by the Department of State, respectively. This includes, but is not limited to, dual-use items, defense articles and any related assistance, services, software or technical data as defined in the EAR and ITAR.

(d) The recipient shall control access to all export-controlled information and technology that it possesses or that comes into its possession in performance of a financial assistance award, to ensure that access is restricted, or licensed, as required by applicable Federal laws, Executive Orders, and/or regulations.

(e) Nothing in the terms of this section is intended to change, supersede, or waive any of the requirements of applicable Federal laws, Executive Orders or regulations.

(f) The recipient shall include this clause, including this paragraph (f), in all lower tier transactions (subawards, contracts, and subcontracts) under the financial assistance award that may involve access to export-controlled information technology.

NOAA Implementation of Homeland Security Presidential Directive—12

If the performance of a financial assistance award, if approved by NOAA, requires recipients to have physical access to Federal premises for more than 180 days or access to a Federal information system, any items or services delivered under a financial assistance award shall comply with the Department of Commerce personal identity verification procedures that implement Homeland Security Presidential Directive—12, FIPS PUB 201, and the Office of Management and Budget Memorandum M-05-24. The recipient shall insert this clause in all subawards or contracts when the subaward recipient or contractor is required to have physical access to a federally controlled facility or access to a Federal information system.

The Department of Commerce Pre-Award Notification Requirements for Grants and Cooperative Agreements

The Department of Commerce Pre-Award Notification Requirements for Grants and Cooperative Agreements contained in the Federal Register notice of December 30, 2004 (69 FR 78389) are applicable to this solicitation.

Paperwork Reduction Act.

This document contains collection-of-information requirements subject to the Paperwork Reduction Act (PRA). The use of Standard Forms 424, 424A, 424B, SF LLL, CD-346, SF 424 Research and Related Family, SF 424 Short Organizational Family, SF 424 Individual Form family has been approved by the Office of Management and Budget (OMB) under the respective control numbers 4040-0004, 0348-0044, 0348-0040, 0348-0046, 0605-0001, 4040-0001, 4040-0003, and 4040-0005. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: August 22, 2007.
Helen Hurcombe,
Director, Acquisition and Grants Office, National Oceanic and Atmospheric Administration.

[FR Doc. 07-4225 Filed 8-27-07; 8:45 am]

BILLING CODE 3510-12-M